DEPARTMENT OF THE INTERIOR

National Park Service

Notice of Availability of Draft Director's Order Concerning National Park Service Policies and Procedures Governing Its Structural Fire Management Program

AGENCY: National Park Service, Interior.

ACTION: Notice of availability.

SUMMARY: The National Park Service (NPS) has prepared a Director's Order setting forth its policies and procedures governing structural fire prevention, protection, and suppression. When adopted, the policies and procedures will apply to all units of the national park system, and will supersede and replace the policies and procedures issued in June 1987.

DATES: Written comments will be accepted until June 26, 2000.

ADDRESSES: Draft Director's Order #58 is available on the Internet at http://www.nps.gov/refdesk/DOrders/index.htm. Requests for copies and written comments should be sent to Bill Oswald, NPS Structural Fire Program Manager, Fire Management Program Center, 3833 S. Development Avenue, Boise, Idaho 83705, or to his Internet address: bill_oswald@nps.gov.

SUPPLEMENTARY INFORMATION: The NPS is updating its current system of internal written instructions. When these documents contain new policy or procedural requirements that may affect parties outside the NPS, they are first made available for public review and comment before being adopted. The policies and procedures governing structural fire management have previously been published in the form of guideline NPS-58. That guideline will be superseded by the new Director's Order 58 (and a reference manual that will be issued subsequent to the Director's Order). The draft Director's Order covers topics such as fire management planning, safety and health, cultural resources, concessions, reporting, investigation, training, coordination, program review, preparedness, and funding. Director's Order #58 addresses only structural fire management; wildland fire management is addressed in Director's Order #18, approved November 17, 1998 (and is also available on the Internet site listed above).

Dated: May 19, 2000.
Loran Fraser,
Chief, Office of Policy.

[FR Doc. 00-13143 Filed 5-24-00; 8:45 am]

BILLING CODE 4310-70-P